DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Director, National Institutes of Health.

The meeting will be open to the public. Individuals who plan to attend and need special assistance, such as sign language interpretation or other reasonable accommodations, should notify the Contact Person listed below in advance of the meeting.

Name of Committee: Advisory Committee to the Director, National Institutes of Health.

Date: September 16, 2013.

Time: 3:00 p.m. to 5:00 p.m.

Agenda: The Advisory Committee to the Director, NIH (ACD) is holding a public conference to discuss the findings of two of its working groups: the Brain Research through Advancing Innovative Neurotechnologies (BRAIN) working group and the HeLa Genome Data Access working group. The BRAIN working group presentation and discussion will focus on the working group's interim report which identifies high priority areas for funding in Fiscal Year 2014.The HeLa Genome Data Access working group presentation will include an overview of the working group's scope and a summary of its review of requests for accessing genome sequence data from HeLa cell lines. Materials related to this meeting will be posted when available on the ACD Web site (http://acd.od.nih.gov).

To sign up for the public comment, please submit you name and affiliation to the Contact Person listed by 11:00 a.m. ET on September 16, 2013. Sign up will be restricted to one sign up per email. In the event that time does not allow for all those interested to present or a comments, anyone may file written comments with the committee through the Contact Person listed below. The statement should include the name, address, telephone number, and when applicable, the business or professional affiliation of the interested person. The toll free number to participate in the teleconference is 800-779-1423. Indicate to the conference operator that your participant pass code is “ACD.”

Place: (Telephone conference call), National Institutes of Health, One Center Drive, Building 1, Room 116, Bethesda, Maryland 20892.

Contact Person: Gretchen Wood, Staff Assistant, National Institutes of Health, Immediate Office of the Director, One Center Drive, Building 1, Room 126, Bethesda, MD 20892, Telephone: 301-496-4272, woodgs@od.nih.gov.

This notice is being published less than 15 days prior to the meeting due to conflicts in finalizing the agenda and scheduling events.

Information is also available on the Institute's/Center's home page: http://acd.od.nih.gov, where an agenda and any additional information for the meeting will be posted when available.

Dated: September 6, 2013.
Anna Snouffer,
Deputy Director, Office of Federal Advisory Committee Policy.

[FR Doc. 2013-22174 Filed 9-11-13; 8:45 am]

BILLING CODE 4140-01-P